DEPARTMENT OF JUSTICE

Notice of Lodging of Consent Decree Under the Clean Air Act, the Comprehensive Emergency Response, Compensation and Liability Act, and the Emergency Planning and Community Right-to-Know Act

Under 28 CFR 50.7, notice is hereby given that on May 11, 2001, a proposed Consent Decree in United States v. Marathon Oil Co. and Marathon Ashland Petroleum, LLC., Civil Action No. 99-4023-JPG, was lodged with the United States District Court for the Southern District of Illinois.

In this action, the United States sought penalties and injunctive relief against Marathon Oil Co. (“MOC”) and Marathon Ashland Petroleum LLC (“MAP”) (collectively “Defendants”) for claims arising in connection with MAP's refinery in Robinson, Illinois, under the Clean Air Act, 42 U.S.C. 7401 et seq., the Comprehensive Environmental Response, Compensation, and Liability Act, 42 U.S.C. 9601 et seq., and the Emergency Planning and Community Right-to-Know Act, 42 U.S.C. 11001 et seq.. Under the Consent Decree, MAP will install at the Robinson Refinery all controls necessary for full compliance with the Benzene Waste NESHAP, 40 CFR part 61, subpart FF, including: (1) Covering and controlling a significant portion of the refinery's oily water sewer system; (2) covering and controlling the junction boxes, drains, and certain tanks at the Refinery's wastewater treatment plant; (3) installing a new, covered and controlled, aboveground API Separator and dissolved Air Flotation Unit; and (4) controlling or taking out of service certain slop oil tanks that are in benzene waste service. The Defendants will pay a civil penalty of $1,675,000. In addition, as a supplemental environmental project, MAP will purchase and donate to the Robinson Fire Department a new emergency transportation vehicle and support equipment worth $125,000.

The Department of Justice will receive for a period of thirty (30) days from the date of this publication comments relating to the Consent Decree. Comments should be addressed to the Assistant Attorney General of the environment and Natural Resources Division, Department of Justice, Washington, DC 20530, and should refer to United States v. Marathon Oil Co. and Marathon Ashland Petroleum, LLC, D.J. Ref. No. 90-5-2-1-1978A.

The Consent Decree may be examined at the Office of the United States Attorney, Nine Executive Dr., Suite 300, Fairview Heights, IL 62208, and at the Region 5 Office of the United States Environmental Protection Agency, 77 West Jackson Boulevard, Chicago, IL 60604-3590. A copy of the Consent Decree may be obtained by mail from the Department of Justice Consent Decree Library, P.O. Box 7611, Washington, DC 20044. In requesting a copy, please refer to above-referenced case, D.J. No. 90-5-2-1-1978A, and enclose a check in the amount of 13.50 (25 cents per page reproduction cost) payable to the Consent Decree Library.

William D. Brighton,
Assistant Section Chief, Environmental Enforcement Section, Environment and Natural Resources Division.

[FR Doc. 01-13867 Filed 6-1-01; 8:45 am]

BILLING CODE 4410-15-M